DEPARTMENT OF STATE

22 CFR Part 41

[Public Notice 3400]

Documentation of Nonimmigrants Under the Immigration and Nationality Act, As Amended—Waiver of Nonimmigrant Visa Fees for Members of Observer Missions to the United Nations

AGENCY: Department of State.

ACTION: Interim rule.

SUMMARY: Current regulations contain a waiver of visa application and issuance fees for aliens coming to the United States in various diplomatic classifications, including those related to international organizations. This rule extends that provision to include persons who are members of observer missions to the United Nations who apply for B-1 visas to enter as participants in their U.N. observer missions.

DATES: This rule is effective August 29, 2000.

FOR FURTHER INFORMATION CONTACT: H. Edward Odom, Chief, Legislation and Regulations Division, Visa Services, Department of State, Washington, D.C. 20520-0106, (202) 663-1204.

SUPPLEMENTARY INFORMATION: The current regulation governing the waiver of visa fees for diplomats, on a reciprocal basis or as provided in the Headquarters Agreement with the United Nations, identifies the beneficiaries of the waiver by the classification of the visas they seek. In some instances, members of missions invited by the United Nations in observer status do not qualify for any of the applicable classifications and, instead, obtain B-1 visas for the purpose of attendance at the United Nations in observer capacity. This amendment will bring such individuals under the same umbrella with regard to visa fees as others at the United Nations.

Is This Within the Agreement With the United Nations?

Yes. Article 11 of the Headquarters Agreement identifies the persons who are to be granted certain privileges. The fifth category, although not using the term “observer mission”, clearly encompasses members of such units. Article 13 requires, among other things, that visas for persons covered by Article 11 be issued gratis.

Why Now, and Not Earlier?

In the past, most persons entering for the purpose of attendance at the United Nations obtained visas in one of the identified classifications. The few who didn't faced fees of negligible amounts and did not object to them. Over time, however, some reciprocal visa issuance fees, in particular, have become substantial, and the unintended but obvious inequity became a problem. This change in the regulation rectifies that problem.

Regulatory Analysis and Notices

Interim Rule

The implementation of this rule as an interim rule, with a 60-day provision for post-promulgation public comments, is based on the “good cause” exceptions set forth at 5. U.S.C. 553(b)(3)(B) and 553(d)(3). The benefit conferred fulfills the international responsibility of the United States as host country. Delay of the benefit for public notice and comment is unnecessary.

The Regulatory Flexibility Act

Pursuant to Section 605 of the Regulatory Flexibility Act, the Department has assessed the potential impact of this rule, and the Assistant Secretary for Consular Affairs hereby certifies that it is not expected to have a significant economic impact on a substantial number of small entities.

Executive Order 12372 and Executive Order 13132

The rule does not directly affect states or local governments or Federal relationships, does not create unfunded mandates, and does not have sufficient federalism implications to warrant preparation of a federalism assessment.

5 U.S.C. Chapter 8

As required by 5 U.S.C., chapter 8, the Department has screened this rule and determined that it is not a major rule, as defined in 5 U.S.C. 80412.

Paperwork Reduction Act:

This rule will not affect paperwork requirements.

List of Subjects in 22 CFR Part 41

Aliens, Nonimmigrants, Passports and visas.

In view of the foregoing, 22 CFR Part 41 is amended as follows:

PART 41—[AMENDED]

1. The authority citation for Part 41 continues to read as follows:

Authority: 8 U.S.C. 1104.

2. 41.107(c)(1) is revised to read as follows:

41.107 Visa Fees

* * * * *

(c) * * *

(1) Upon a basis of reciprocity, or as provided in section 13(a) of the Headquarters Agreement with the United Nations (61 Stat. 716; 22 U.S.C. 287, Note), no fee shall be collected for the application for or issuance of a nonimmigrant visa to an alien who is within a class of nonimmigrants classifiable under the visa symbols A, G, C-2, C-3, or NATO, or B-1 issued for participation in an official observer mission to the United Nations, or who is issued a diplomatic visa as defined in § 41.26.

* * * * *

Dated: August 4, 2000.
Mary A. Ryan,
Assistant Secretary for Consular Affairs, Department of State.

[FR Doc. 00-22029 Filed 8-28-00; 8:45 am]

BILLING CODE 4710-06-U